DEPARTMENT OF HEALTH AND HUMAN SERVICES

National Institutes of Health

Notice of Establishment

Pursuant to the Federal Advisory Committee Act, as amended (5 U.S.C. app.), the Director, National Institutes of Health (NIH), announces the establishment of the NCI-Frederick Advisory Committee.

The Council will provide advice and recommendations to the Director, National Cancer Institute (NCI), and the Associate Director, NCI-Frederick, on the optimal use of the NCI-Frederick facility to rapidly meet the most urgent needs of the NCI. The Committee will consist of 16 members, including the Chair, appointed by the Director, NCI. Members will be authorities knowledgeable in drug and vaccine development, clinical trials support, AIDS research, bioinformatics, genomics, nanotechnology, biological repositories, and basic research in immunology and infectious diseases.

Duration of this committee is continuing unless formally determined by the Director, NCI that termination would be in the best interest of the public.

Dated: March 9, 2011.
Francis S. Collins,
Director, National Institutes of Health.

[FR Doc. 2011-6023 Filed 3-14-11; 8:45 am]

BILLING CODE 4140-01-P